DEPARTMENT OF ENERGY

Senior Executive Service; Performance Review Board Chair

AGENCY: U.S. Department of Energy.

ACTION: SES Performance Review Board Chair.

SUMMARY: This notice provides the Performance Review Board Chair for the Department of Energy. This listing supersedes all previously published lists of the PRB Chair.

DATES: Effective Date: This appointment is effective as of September 22, 2008.

Sarah J. Bonilla,
Director, Office of Human Capital Management.

[FR Doc. E8-23846 Filed 10-7-08; 8:45 am]

BILLING CODE 6450-01-P